ENVIRONMENTAL PROTECTION AGENCY

[EPA-HQ-OPPT-2018-0516; FRL-9989-95-OMS]

Information Collection Request Submitted to OMB for Review and Approval; Comment Request; TSCA Section 8(a) Preliminary Assessment Information Rule (PAIR) (Renewal)

AGENCY: Environmental Protection Agency (EPA).

ACTION: Notice.

SUMMARY: The Environmental Protection Agency (EPA) has submitted the following information collection request (ICR) to the Office of Management and Budget (OMB) for review and approval in accordance with the Paperwork Reduction Act: TSCA Section 8(a) Preliminary Assessment Information Rule (PAIR), EPA ICR Number 0586.14 and OMB Control Number 2070-0054. This is a request to renew the approval of an existing ICR. The ICR, which is available in the docket along with other related materials, provides a detailed explanation of the collection activities and the burden estimate that is only briefly summarized in this document. EPA provided public review opportunity issued in the Federal Register on August 29, 2018. With this submission, EPA is providing an additional 30 days for public review and comment.

DATES: Comments must be received on or before May 29, 2019.

ADDRESSES: Submit your comments, identified by docket identification (ID) number EPA-HQ-OPPT-2018-0516, and OMB Control No. 2070-0054, to (1) EPA online using http://www.regulations.gov (our preferred method) or by mail to: EPA Docket Center, Environmental Protection Agency, Mail Code 28221T, 1200 Pennsylvania Ave. NW, Washington, DC 20460; (2) OMB via email to oira_submission@omb.eop.gov. Address comments to OMB Desk Officer for EPA.

EPA's policy is that all comments received will be included in the docket without change, including any personal information provided, unless the comment includes profanity, threats, information claimed to be Confidential Business Information (CBI), or other information whose disclosure is restricted by statute. Do not submit electronically any information you consider to be CBI or other information whose disclosure is restricted by statute.

FOR FURTHER INFORMATION CONTACT: Virginia Lee, Chemical Control Division, 7405M, Office of Pollution Prevention and Toxics, Environmental Protection Agency, 1200 Pennsylvania Ave. NW, Washington, DC 20460-0001; telephone number: (202) 564-4142; email address: lee.virginia@epa.gov.

SUPPLEMENTARY INFORMATION: Docket: Supporting documents, including the ICR that explains in detail the information collection activities and the related burden and cost estimates, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This ICR is currently scheduled to expire on April 30, 2019. EPA did not receive any comments in response to a 60-day public comment opportunity announced in the Federal Register on August 29, 2018 (83 FR 44045). Under OMB regulations, the Agency may continue to conduct or sponsor the collection of information while this submission is pending at OMB. Under the PRA, 44 U.S.C. 3501 et seq., an agency may not conduct or sponsor, and a person is not required to respond to, a collection of information, unless it displays a currently valid OMB control number.

Abstract: EPA promulgated the generic Preliminary Assessment Information Rule (PAIR) (40 CFR part 712) under section 8(a) of the Toxic Substances Control Act (TSCA). The Frank R. Lautenberg Chemical Safety for the 21st Century Act amending TSCA was enacted on June 22, 2016; however, the authority for a TSCA section 8(a) PAIR rule was not modified. EPA uses PAIR, using the Manufacturer's Report Preliminary Assessment Information Form, to collect information to help identify, assess, and manage human health and environmental risks from chemical substances, mixtures and categories. PAIR requires chemical manufacturers and importers to complete and submit standardized information about production, use, or exposure-related data to help evaluate the potential for human health and environmental risks caused by the manufacture or importation of identified chemical substances, mixtures or categories. EPA or other federal agencies can identify chemicals for a TSCA section 8(a) PAIR expediated rulemaking that have a justifiable need for production, use, or exposure-related data. This ICR also covers certain specific chemical testing and reporting requirements under Subpart B of 40 CFR part 766 that are very similar to the PAIR requirements. The Agency rarely receives submissions of the information required by 40 CFR 766. The dibenzo-para-dioxin/dibenzofuran regulations at 40 CFR part 766 require that any person who manufactures, imports, or processes a chemical substance listed at 40 CFR 766.25 test that chemical substance and submit appropriate information to EPA. Persons who commence manufacture, import, or processing of a chemical substance listed at 40 CFR 766.25, must submit a letter of intent to test or an exemption application within 60-days of starting any of those activities. Each person who is manufacturing or processing a chemical listed in 40 CFR 766.25, must submit a protocol for testing. Persons who manufacture or import a chemical substance listed under 40 CFR 766.25 must report positive test results, using the Dioxin/Furan Report Form, of all existing test data that show that chemical substance has been tested for the presence of halogenated dibenzodioxins/halogenated dibenzofurans (HDDs/HDFs), as well as any health and safety studies for the chemical substance, as defined in the regulation, no later than 90 days after the date of submission of the positive test result. Additionally, any manufacturer or importer of a chemical substance listed in 40 CFR 766.25 in possession of unpublished health and safety studies on HDDs/HDFs is required to submit copies of such studies to EPA, in accordance with provisions of 40 CFR 716, no later than 90 days after the person first manufactures or imports the chemical substance.

Form Numbers: EPA Form 7710-35, and EPA Form 7710-51.

Respondents/affected entities: Companies that manufacture, process or import chemical substances, mixtures or categories. Respondents are primarily in the following North American Industrial Classification System (NAICS) codes: 3251 Basic Chemical Manufacturing; 3252 Resin, Synthetic Rubber, and Artificial Synthetic Fibers and Filaments Manufacturing; 3255 Paint, Coating, and Adhesive Manufacturing; 3253 Pesticide, Fertilizer, and Other Agricultural Chemical Manufacturing; 3259 Other Chemical Product and Preparation Manufacturing; and 32411 Petroleum Refineries.

Respondent's obligation to respond: Mandatory (TSCA section 8(a) and 40 CFR 712).

Estimated number of respondents: 1 (total).

Frequency of response: On occasion.

Total estimated burden: 33 hours (per year). Burden is defined at 5 CFR 1320.3(b).

Total estimated cost: $2,533 (per year), includes $0 annualized capital or operation and maintenance costs.

Changes in the Estimates: There is a slight increase of 1 hour in the total estimated respondent burden compared with the ICR currently approved by OMB. This increase reflects the revised CBI substantiation requirements in the 2016 amendments to TSCA.

Dated: April 22, 2019.
Courtney Kerwin,
Director, Regulatory Support Division.

[FR Doc. 2019-08512 Filed 4-26-19; 8:45 am]

BILLING CODE 6560-50-P